DEPARTMENT OF STATE

[Public Notice 4637]

60-Day Notice of Proposed Information Collection: DS-2031, Shrimp Exporter's/Importer's Declaration; OMB Control Number 1405-0095

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Extension of a currently approved collection.

Originating Office: Bureau of Oceans and International Environmental and Scientific Affairs, Office of Marine Conservation (OES/OMC).

Title of Information Collection: Shrimp Exporter's/Importer's Declaration.

Frequency: On occasion.

Form Number: DS-2031.

Respondents: Foreign shrimp exporters, foreign governments (in some cases) and U.S. importers.

Estimated Number of Respondents: 3,000 per year.

Average Hours Per Response: 10 minutes.

Total Estimated Burden: 1,666.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to James Story, Office of Marine Conservation, U.S. Department of State, 2201 C St. NW., Washington, DC 20520, who may be reached on 202-647-2335.

Dated: March 5, 2004.
David A. Balton,
Deputy Assistant Secretary for Oceans and Fisheries, Bureau of Oceans and International Environmental and Scientific Affairs, Department of State.

[FR Doc. 04-6122 Filed 3-17-04; 8:45 am]

BILLING CODE 4710-09-P